FEDERAL EMERGENCY MANAGEMENT AGENCY

44 CFR Part 64

[Docket No. FEMA-7728]

List of Communities Eligible for the Sale of Flood Insurance

AGENCY: Federal Emergency Management Agency (FEMA).

ACTION: Final rule.

SUMMARY: This rule identifies communities participating in the National Flood Insurance Program (NFIP). These communities have applied to the program and have agreed to enact certain floodplain management measures. The communities' participation in the program authorizes the sale of flood insurance to owners of property located in the communities listed.

EFFECTIVE DATES: The dates listed in the third column of the table.

ADDRESSES: Flood insurance policies for property located in the communities listed can be obtained from any licensed property insurance agent or broker serving the eligible community, or from the NFIP at: Post Office Box 6464, Rockville, MD 20849, (800) 638-6620.

FOR FURTHER INFORMATION CONTACT: Robert F. Shea, Jr., Division Director, Program Support Division, Mitigation Directorate, 500 C Street SW., room 417, Washington, DC 20472, (202) 646-3619.

SUPPLEMENTARY INFORMATION: The NFIP enables property owners to purchase flood insurance which is generally not otherwise available. In return, communities agree to adopt and administer local floodplain management measures aimed at protecting lives and new construction from future flooding. Since the communities on the attached list have recently entered the NFIP, subsidized flood insurance is now available for property in the community.

In addition, the Associate Director of the Federal Emergency Management Agency has identified the special flood hazard areas in some of these communities by publishing a Flood Hazard Boundary Map (FHBM) or Flood Insurance Rate Map (FIRM). The date of the flood map, if one has been published, is indicated in the fourth column of the table. In the communities listed where a flood map has been published, Section 102 of the Flood Disaster Protection Act of 1973, as amended, 42 U.S.C. 4012(a), requires the purchase of flood insurance as a condition of Federal or federally related financial assistance for acquisition or construction of buildings in the special flood hazard areas shown on the map.

The Associate Director finds that the delayed effective dates would be contrary to the public interest. The Associate Director also finds that notice and public procedure under 5 U.S.C. 553(b) are impracticable and unnecessary.

National Environmental Policy Act

This rule is categorically excluded from the requirements of 44 CFR Part 10, Environmental Considerations. No environmental impact assessment has been prepared.

Regulatory Flexibility Act

The Associate Director certifies that this rule will not have a significant economic impact on a substantial number of small entities in accordance with the Regulatory Flexibility Act, 5 U.S.C. 601 et seq., because the rule creates no additional burden, but lists those communities eligible for the sale of flood insurance.

Regulatory Classification

This final rule is not a significant regulatory action under the criteria of section 3(f) of Executive Order 12866 of September 30, 1993, Regulatory Planning and Review, 58 FR 51735.

Paperwork Reduction Act

This rule does not involve any collection of information for purposes of the Paperwork Reduction Act, 44 U.S.C. 3501 et seq.

Executive Order 12612, Federalism

This rule involves no policies that have federalism implications under Executive Order 12612, Federalism, October 26, 1987, 3 CFR, 1987 Comp., p. 252.

Executive Order 12778, Civil Justice Reform

This rule meets the applicable standards of section 2(b)(2) of Executive Order 12778, October 25, 1991, 56 FR 55195, 3 CFR, 1991 Comp., p. 309.

List of Subjects in 44 CFR Part 64

Flood insurance, Floodplains.

Accordingly, 44 CFR part 64 is amended as follows:

PART 64—[AMENDED]

1. The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State/location | Community No. | Effective date of eligibility | Current effective map date
New Eligibles—Emergency Program
Washington: Garfield, county of, unincorporated areas | 530047 | Dec. 1, 1999 | Nov. 15, 1977.
Utah: Monticello, city of, San Juan County | 490212 | Dec. 6, 1999 | Dec. 24, 1976.
Tennessee: Overton, county of, unincorporated areas | 470362 | Dec. 9, 1999 | Jan. 13, 1978.
Michigan:
Brandon, township of, Oakland County | 261031 | Dec. 17, 1999 |
Ensley, township of, Newaygo County | 261042 | ......do |
Iowa:
Delhi, city of, Delaware County | 190566 | ......do | Mar. 19, 1976.
Cerro Gordo, county of, unincorporated areas | 190853 | Dec. 29, 1999 | June 7, 1977.
Texas: Schulenburg, city of, Fayette County | 481134 | Jan. 5, 2000 | June 25, 1976.
New Eligibles—Regular Program
Tennessee: Plainview, city of, Union County | 470417 | Dec. 9, 1999 | July 16, 1990.
Reinstatement
Indiana: New Castle, city of, Henry County | 180092 | Sept. 4, 1987, Reg.; Sept. 4, 1987, Susp.; Dec. 17, 1999, Reg.; Dec. 17, 1999, Rein | Sept. 4, 1987.
Regular Program Conversions
Region II
New York: Sloatsburg, village of, Rockland County | 360690 | Dec. 1, 1999, Suspension Withdrawn | Dec. 1, 1999.
Region I
Rhode Island: North Providence, town of, Providence County | 440020 | Dec. 6, 1999, Suspension Withdrawn | Dec. 6, 1999.
Region III
Philadelphia: Smithfield, township of, Monroe County | 421896 | ......do | Do.
Region V
Michigan:
Nashville, village of, Barry County | 260902 | ......do | Do.
Northville, city of, Wayne & Oakland Counties | 260235 | ......do | Do.
Ohio: Bay Village, city of, Cuyahoga County | 390093 | ......do | Do.
Wisconsin:
Ozaukee County, unincorporated areas | 550310 | ......do | Do.
Saukville, village of, Ozaukee County | 550317 | ......do | Do.
Region VI
Oklahoma: Lincoln County, unincorporated areas | 400457 | ......do | Do.
Texas:
Midland, city of, Midland County | 480477 | ......do | Do.
Midland County, unincorporated areas | 481239 | ......do | Do.
Odessa, city of, Midland County | 480206 | ......do | Do.
Region VII
Iowa: Ankeny, city of, Polk County | 190226 | ......do | Do.
Missouri:
Foristell, city of, St. Charles County | 290902 | ......do | Do.
Lee's Summit, city of, Jackson & Cass Counties | 290174 | ......do | Do.
Nebraska:
Albion, city of, Boone County | 310009 | ......do | Do.
Boone County, unincorporated areas | 310008 | ......do | Do.
Petersburg, village of, Boone County | 310308 | ......do | Do.
St. Edward, village of, Boone County | 310010 | ......do | Do.
Region VIII
Utah: Santa Clara, town of, Washington County | 490178 | ......do | Do.
Region X
Alaska: Kenai Peninsula, borough of | 020012 | ......do | Do.
Washington: Kittitas County, unincorporated areas | 530095 | ......do | Do.
Region I
Vermont:
Bellows Falls, village of, Windham County | 500125 | Dec. 20, 1999 Suspension Withdrawn | Dec. 20, 1999.
Rockingham, town of, Windham County | 500135 | ......do | Do.
Springfield, town of, Windsor County | 500154 | ......do | Do.
Thetford, town of, Orange County | 500075 | ......do | Do.
Region IV
South Carolina:
Hollywood, town of, Charleston County | 450037 | ......do | Do.
Ravenel, town of, Charleston County | 450043 | ......do | Do.
Tennessee:
Lincoln County, unincorporated areas | 470104 | ......do | Do.
Petersburg, town of, Lincoln County | 470106 | ......do | Do.
Region V
Minnesota: Sauk Rapids, city of Benton County | 270023 | ......do | Do.
Wisconsin: Grant County, unincorporated areas | 555557 | ......do | Do.
¹ The City of Plainview adopted the Union County Flood Insurance Rate Map (CID #470194) dated 07/16/90, panel 0100B.
Code for reading third column: Emerg.—Emergency; Reg.—Regular; Rein.—Reinstatement; Susp.—Suspension; With.—Withdrawn; NSFHA—Non Special Flood Hazard Area.

(Catalog of Federal Domestic Assistance No. 83.100, “Flood Insurance.”)

Issued: February 8, 2000.
Michael J. Armstrong,
Associate Director for Mitigation.

[FR Doc. 00-4074 Filed 2-18-00; 8:45 am]

BILLING CODE 6718-05-P